DEPARTMENT OF JUSTICE

Antitrust Division

Notice Pursuant to the National Cooperative Research and Production Act of 1993—Senior Healthcare Innovation Consortium

Notice is hereby given that, on October 5, 2023, pursuant to Section 6(a) of the National Cooperative Research and Production Act of 1993, 15 U.S.C. 4301 et seq. (“the Act”), Senior Healthcare Innovation Consortium (“SHIC”) has filed written notifications simultaneously with the Attorney General and the Federal Trade Commission disclosing changes in its membership. The notifications were filed for the purpose of extending the Act's provisions limiting the recovery of antitrust plaintiffs to actual damages under specified circumstances. Specifically, Center to Stream Healthcare In Place, Tucson, AZ; Interdisciplinary Consortium on Advanced Motion Performance, Houston, TX; and Mentia, Novato, CA, have been added as parties to this venture.

No other changes have been made in either the membership or planned activity of the group research project. Membership in this group research project remains open, and SHIC intends to file additional written notifications disclosing all changes in membership.

On November 02, 2022, SHIC filed its original notification pursuant to Section 6(a) of the Act. The Department of Justice published a notice in the Federal Register pursuant to Section 6(b) of the Act on November 23, 2022 (87 FR 71677).

The last notification was filed with the Department on July 11, 2023. A notice was published in the Federal Register pursuant to Section 6(b) of the Act on September 26, 2023 (88 FR 66056).

Suzanne Morris,
Deputy Director Civil Enforcement Operations, Antitrust Division.

[FR Doc. 2023-27565 Filed 12-14-23; 8:45 am]

BILLING CODE 4410-11-P